DEPARTMENT OF THE INTERIOR

Bureau of Land Management

[OR-958-1430-ET; HAG01-0010; OR-52315]

Proposed Withdrawal Public Meeting Announcement; Oregon

AGENCY: Bureau of Land Management, Interior.

ACTION: Notice.

SUMMARY: The United States Department of Agriculture, Forest Service, filed an application to withdraw approximately 9,533 acres of National Forest System lands to protect recreational, scenic, cultural and traditional use values in addition to threatened, endangered, and sensitive flora and fauna natural resource values. This notice identifies the time, place, and location of two public open houses whereby the public is invited to be involved in and comment on the Forest Service's proposed action.

DATES: Written comments should be received on or before January 4, 2001.

ADDRESSES: Written comments should be sent to the Forest Supervisor, Rogue River National Forest, 333 W. 8th Street, Medford, Oregon 97501.

SUPPLEMENTARY INFORMATION: The United States Department of Agriculture, Forest Service filed an application to withdraw National Forest System lands from location and entry under the mining laws, subject to valid existing rights to protect an area on the Rogue River and Umpqua National Forests known as the Huckleberry Patch. The notice of segregation became effective on the date the notice of withdrawal was originally published in the Federal Register, which was October 5, 2000, 65 FR page 59464. Notice is hereby given that an open house relative to the proposed withdrawal will be held at the following locations on the dates shown at the times indicated:

Douglas County Library, 1409 NE Diamond Lake Blvd., Roseburg, Oregon from 4 P.M. to 7 P.M., on November 20th, 2000. Questions may be directed to Jake O'Dowd, Forest Service 541-957-3354.

Jackson County Courthouse, 10 S. Oakdale, Medford, Oregon from 4 P.M. to 7 P.M., on November 21st, 2000. Questions may be directed to Bengt Hamner, Forest Service 541-858-2304.

Dated: October 12, 2000.
Robert D. DeViney, Jr.,
Chief, Branch of Realty and Records Services.

[FR Doc. 00-26840 Filed 10-18-00; 8:45 am]

BILLING CODE 4310-33-P